DEPARTMENT OF COMMERCE

International Trade Administration

The Research Corporation of the University of Hawaii, et al.; Notice of Consolidated Decision on Applications for Duty-Free Entry of Electron Microscope

This is a decision consolidated pursuant to Section 6(c) of the Educational, Scientific, and Cultural Materials Importation Act of 1966 (Pub. L. 89-651, as amended by Pub. L. 106-36; 80 Stat. 897; 15 CFR part 301). Related records can be viewed between 8:30 a.m. and 5:00 p.m. in Room 3720, U.S. Department of Commerce, 14th and Constitution Avenue NW., Washington, DC.

Docket Number: 14-014. Applicant: The Research Corporation of the University of Hawaii, Honolulu, HI 96822. Instrument: Electron Microscope. Manufacturer: FEI Company, Czech Republic. Intended Use: See notice at 79 FR 54680, September 12, 2014.

Docket Number: 14-017. Applicant: Chehalis School District, Chehalis, WA 98532. Instrument: Electron Microscope. Manufacturer: Tescan, S.R.O., Czech Republic. Intended Use: See notice at 79 FR 48123, August 15, 2014.

Docket Number: 14-018. Applicant: University of Chicago, Chicago, IL 60637. Instrument: Electron Microscope. Manufacturer: Brno, Czech Republic. Intended Use: See notice at 79 FR 48123, August 15, 2014.

Docket Number: 14-020. Applicant: Louisiana State University, Shreveport, LA 71115. Instrument: Electron Microscope. Manufacturer: Delong Instruments A.s., Czech Republic. Intended Use: See notice at 79 FR 54680, September 12, 2014.

Docket Number: 14-022. Applicant: University of Nebraska-Lincoln, Lincoln, NE 68588-0645. Instrument: Electron Microscope. Manufacturer: FEI Company, the Netherlands. Intended Use: See notice at 79 FR 54680-81, September 12, 2014.

Docket Number: 14-025. Applicant: Michigan State University, Grand Rapids, MI 49503. Instrument: Electron Microscope. Manufacturer: JEOL Ltd., Japan. Intended Use: See notice at 79 FR 54680-81, September 12, 2014.

Comments: None received. Decision: Approved. No instrument of equivalent scientific value to the foreign instrument, for such purposes as this instrument is intended to be used, is being manufactured in the United States at the time the instrument was ordered. Reasons: Each foreign instrument is an electron microscope and is intended for research or scientific educational uses requiring an electron microscope. We know of no electron microscope, or any other instrument suited to these purposes, which was being manufactured in the United States at the time of order of each instrument.

Dated: October 16, 2014.
Gregory W. Campbell,
Director, Subsidies Enforcement Office, Enforcement and Compliance.

[FR Doc. 2014-25256 Filed 10-22-14; 8:45 am]

BILLING CODE 3510-DS-P